DEPARTMENT OF TRANSPORTATION

Surface Transportation Board

[STB Finance Docket No. 34182]

ISG Cleveland Works Railway Company—Acquisition and Operation Exemption—Rail Lines of The Cuyahoga Valley Railway Company and River Terminal Railway Company

ISG Cleveland Works Railway Company (CWRO), a noncarrier and indirect wholly owned subsidiary of International Steel Group, Inc. (ISG), has filed a notice of exemption under 49 CFR 1150.31 to acquire and operate 9.5 miles of railroad lines of The Cuyahoga Valley Railway Company (CVRC) and River Terminal Railway Company (RTRC), Class III rail carrier subsidiaries of LTV Steel Company, Inc., as follows: (a) CVRC's approximately 3.4-mile line within and in the vicinity of the Cleveland Works West steel facility located on the west side of the Cuyahoga River in Cuyahoga County, OH; (b) RTRC's approximately 3.9-mile line within and in the vicinity of the Cleveland Works East steel facility located on the east side of the Cuyahoga River in Cuyahoga County; ¹ and (c) CVRC's and RTRC's approximately 2.2-mile jointly owned line between approximately station 25 + 49.7 and approximately station 140 + 5 that extends between and through the Cleveland Works West facility and the Cleveland Works East facility. In addition, CWRO will acquire overhead trackage rights of CVRC over approximately 1,750 feet of rail line formerly owned by the Baltimore and Ohio Railroad Company and currently owned by CSX Transportation, Inc., between approximately P.S. 250 + 68 near Cleveland and approximately O.P. 20 + 73 in Cuyahoga Heights, OH.²

¹ The CVRC lines and the RTRC lines do not have milepost designations.

² By decision served on May 6, 2002, the Chairman issued a “housekeeping” stay of the effective date of the notice of exemption to permit the orderly consideration of a petition filed by United Transportation Union (UTU) to revoke the exemption. Subsequently, by decision served on May 15, 2002, the Board denied UTU's petition to revoke the exemption in this proceeding. The May 15 decision also vacated the housekeeping stay, making the exemption effective on that date.

This transaction is related to STB Finance Docket No. 34201, International Steel Group, Inc.—Continuance in Control Exemption—ISG South Chicago & Indiana Harbor Railway Company and ISG Cleveland Works Railway Company, wherein ISG seeks to continue in control of ISG South Chicago & Indiana Harbor Railway Company and CWRO, upon CWRO's becoming a Class III rail carrier.

The transaction was scheduled to be consummated on the effective date of the exemption, which, as noted, was May 15, 2002.

If the verified notice contains false or misleading information, the exemption is void ab initio. Petitions to revoke the exemption under 49 U.S.C. 10502(d) may be filed at any time. The filing of a petition to revoke will not automatically stay the transaction.

An original and 10 copies of all pleadings, referring to STB Finance Docket No. 34182, must be filed with the Surface Transportation Board, Case Control Unit, 1925 K Street, NW., Washington, DC 20423-0001. In addition, a copy of each pleading must be served on Kevin M. Sheys, Kirkpatrick & Lockhart LLP, 1800 Massachusetts Ave., 2nd Floor, Washington, DC 20036.

Board decisions and notices are available on our website at “WWW.STB.DOT.GOV.”

Decided: May 22, 2002.
By the Board, David M. Konschnik, Director, Office of Proceedings.
Vernon A. Williams,
Secretary.

[FR Doc. 02-13384 Filed 5-28-02; 8:45 am]

BILLING CODE 4915-00-P